NUCLEAR REGULATORY COMMISSION

[NRC-2014-0209]

Nonmetallic Thermal Insulation for Austenitic Stainless Steel

AGENCY: Nuclear Regulatory Commission.

ACTION: Regulatory guide; issuance.

SUMMARY: The U.S. Nuclear Regulatory Commission (NRC) is issuing Revision 1 to Regulatory Guide (RG) 1.36, “Nonmetallic Thermal Insulation for Austenitic Stainless Steel.” The RG describes methods and procedures that the staff of the U.S. Nuclear Regulatory Commission (NRC) considers acceptable when selecting and using nonmetallic thermal insulation to minimize any contamination that could promote stress-corrosion cracking in the stainless steel portions of the reactor coolant pressure boundary and other systems important to safety. This guide applies to light-water-cooled reactors.

ADDRESSES: Please refer to Docket ID NRC-2014-0209 when contacting the NRC about the availability of information regarding this document. You may obtain publically-available information related to this document, using any of the following methods:

• Federal Rulemaking Web site: Go to http://www.regulations.gov and search for Docket ID NRC-2014-0209. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if available in ADAMS) is provided the first time that a document is referenced. Revision 1 of Regulatory Guide 1.36 is available in ADAMS under Accession No. ML15026A664. The regulatory analysis may be found in ADAMS under Accession No. ML14079A669.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: David W. Alley, Office of Nuclear Reactor Regulation, 301-415-2178 email: Dave.Alley@nrc.gov and Richard A. Jervey, Office of Nuclear Regulatory Research, 301-251-7404, email: Richard.Jervey@nrc.gov. Both are staff of the U.S. Nuclear Regulatory Commission, Washington, DC 20555-0001.

SUPPLEMENTARY INFORMATION:

I. Introduction

The NRC is issuing a revision to an existing guide in the NRC's “Regulatory Guide” series. Regulatory guides were developed to describe and make available to the public information and methods that are acceptable to the NRC staff for implementing specific parts of the agency's regulations, techniques that the staff uses in evaluating specific problems or postulated accidents, and data that the staff needs in its review of applications for permits and licenses.

Revision 1 of RG 1.36 was issued with a temporary identification as Draft Regulatory Guide, DG-1312. RG 1.36, Revision 1, updates NRC guidance to approve for use current voluntary consensus standards (specifications) related to thermal insulation in contact with austenitic stainless steel. The standards have been revised and improved in recent years; thus they represent current best practices available for that purpose. Significantly, the current standards offer more than one test method to satisfy the objective of the standard. Additionally, several test methods identified in the previous RG 1.36 are no longer in use and the references to them have been removed.

II. Additional Information

Draft Guide (DG)-1312, was published in the Federal Register on October 6, 2014 (79 FR 60188) for a 30-day public comment period. The public comment period closed on November 5, 2014. Public comments on DG-1312 and the staff responses to the public comments are available under ADAMS Accession Number ML15026A678.

III. Congressional Review Act

This regulatory guide is a rule as defined in the Congressional Review Act (5 U.S.C. 801-808). However, the Office of Management and Budget has not found it to be a major rule as defined in the Congressional Review Act.

IV. Backfitting and Issue Finality

RG 1.36, Revision 1, provides guidance on one acceptable way of meeting the requirements in GDC 1 and GDC 14 with respect to stress-corrosion cracking in austenitic steel portions of the reactor coolant pressure boundary which are caused in part by contact with nonmetallic thermal insulation. This does not constitute backfitting as defined in Section 50.109 of Title 10 of the Code of Federal Regulations (10 CFR) (the Backfit Rule), and is not otherwise inconsistent with the issue finality provisions in 10 CFR part 52, “Licenses, Certifications, and Approvals for Nuclear Power Plants.” The NRC's position is based upon the following considerations.

Existing licensees, part 50 construction permit holders and part 50 operating license holders, and applicants of final design certification rules would not be required to comply with the positions set forth in RG 1.36, Revision 1, unless the construction permit or an operating license holder makes a voluntary change to their licensing basis with respect to non-metallic thermal insulation in contact with austenitic stainless steel, and the NRC determines that the safety review must include consideration of the matters addressed in this regulatory guide.

Existing design certification rules would not be required to be amended to comply with the positions set forth in RG 1.36 unless the NRC addresses the issue finality provisions in 10 CFR 52.63(a).

Existing combined license holders (referencing the AP1000 design certification rule in 10 CFR part 52, Appendix D) would not be required to comply with the positions set forth in RG 1.36 unless the NRC addresses the issue finality provisions in 10 CFR 52.63(a).

RG 1.36 may be applied to current applications for operating licenses, combined licenses, and certified design rules docketed by the NRC as of the date of issuance of the revision to the regulatory guide, as well as future applications submitted after the issuance of the revised regulatory guide. Such action would not constitute backfitting as defined in § 50.109(a)(1) or be otherwise inconsistent with the applicable issue finality provision in 10 CFR part 52.

Applicants and potential applicants are not, with certain exceptions, protected by either the Backfit Rule or any issue finality provisions under 10 CFR part 52. This is because neither the Backfit Rule nor the issue finality provisions under part 52—with certain exclusions discussed below—were intended to apply to every NRC action which substantially changes the expectations of current and future applicants.

The exceptions to the general principle are applicable whenever a combined license applicant references a part 52 license (e.g., an early site permit) and/or NRC regulatory approval (e.g., a design certification rule) with specified issue finality provisions. The NRC does not, at this time, intend to impose the positions represented in the RG, on combined license applicants in a manner that is inconsistent with any issue finality provisions. If, in the future, the NRC seeks to impose a position in the RG, in a manner which does not provide issue finality as described in the applicable issue finality provision, then the NRC must address the criteria for avoiding issue finality as described in the applicable issue finality provision.

Dated at Rockville, Maryland, this 15th day of May 2015.
For the Nuclear Regulatory Commission.
Thomas H. Boyce,
Chief, Regulatory Guidance and Generic Issues Branch, Division of Engineering, Office of Nuclear Regulatory Research.

[FR Doc. 2015-12292 Filed 5-20-15; 8:45 am]

BILLING CODE 7590-01-P